NATIONAL SCIENCE FOUNDATION

Proposal Review Panel for Materials Research; Notice of Meeting

In accordance with the Federal Advisory Committee Act (Pub. L. 92-463 as amended), the National Science Foundation announces the following meeting:

Name: Proposal Review Panel for Materials Research, Facility Operations Review Panel (1203).

Dates and Times: Wednesday, May 27, 2009, 7 p.m.-8:30 p.m., Thursday, May 28, 2009, 8 a.m.-10 p.m., and Friday, May 29, 2009, 8 a.m.-3 p.m.

Place: California Institute of Technology, Pasadena, CA.

Type of Meeting: Partially Closed.

Contact Person: Dr. Guebre X. Tessema, Program Director, National Facilities Programs, Division of Materials Research, Room 1080, National Science Foundation, 4201 Wilson Boulevard, Arlington, VA 22230, Telephone (703) 292-4935.

Purpose of Meeting: Site Visit Review to provide advice and recommendations concerning two Midscale construction projects DMR-0520547 and DMR-0603042

Agenda:

Wednesday, May 27

7 p.m.-8:30 p.m. Closed—Working Dinner and Executive Session.

Thursday, May 28 Series connected hybrid (DMR-0603042)

8 a.m.-11:45 a.m. Open—Presentations.

11:45 a.m.-12:15 p.m. Closed—Executive Session.

12:15 p.m.-1:15 p.m. Lunch break.

1:30 p.m.-5 p.m. Closed—Executive Session and report writing.

5 p.m.-7 p.m. Dinner.

7 p.m.-10 p.m. Closed—Executive session.

Friday, May 29 DANSE Project (DMR-0603042)

8 a.m.-11:45 a.m. Open—DANSE.

11:45 a.m.-12:15 p.m. Closed—Executive Session.

12:15 p.m.-1:15 p.m. Lunch break.

1:15 p.m.-3 p.m. Closed—Executive Session (Report Writing).

Reason for Closing: The work being reviewed may include information of a proprietary or confidential nature, including technical information; financial data, such as salaries and personal information concerning individuals associated with the proposals. These matters are exempt under 5 U.S.C. 552 b(c), (4) and (6) of the Government in the Sunshine Act.

Dated: May 5, 2009.
Susanne Bolton,
Committee Management Officer.

[FR Doc. E9-10787 Filed 5-8-09; 8:45 am]

BILLING CODE 7555-01-P